DEPARTMENT OF EDUCATION

Fund for the Improvement of Postsecondary Education (FIPSE)—Special Focus Competition: Program for North American Mobility in Higher Education

ACTION: Extension; Notice extending deadline dates.

SUMMARY: On January 27, 2010, we published a notice in the Federal Register (75 FR 4356) inviting applications for new awards for fiscal year (FY) 2010 for the Fund for the Improvement of Postsecondary Education (FIPSE)—Special Focus Competition: Program for North American Mobility in Higher Education (Application Notice). Through this notice, we extend the Deadline for Transmittal of Applications and the Deadline for Intergovernmental Review dates announced in the Application Notice.

DATES: The Deadline for Transmittal of Applications date, as published on pages 4356 and 4357 of the Application Notice, has been extended to April 16, 2010.

The Deadline for Intergovernmental Review date, as published on pages 4356 and 4357 of the Application Notice, has been extended to June 15, 2010.

FOR FURTHER INFORMATION CONTACT: Frank Frankfort, Fund for the Improvement of Postsecondary Education, Program for North American Mobility in Higher Education, 1990 K Street, NW., room 6152, Washington, DC 20006-8544. Telephone: (202) 502-7513.

If you use a TDD, call the FRS, toll free, at 1-800-877-8339.

Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF), on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: March 18, 2010.
Daniel T. Madzelan,
Director, Forecasting and Policy Analysis.

[FR Doc. 2010-6365 Filed 3-22-10; 8:45 am]

BILLING CODE 4000-01-P